DEPARTMENT OF ENERGY

Federal Energy Regulatory Commission

[Docket No. RP01-47-002]

Viking Gas Transmission Company; Notice of Compliance Filing

March 12, 2001.

Take notice that on February 12, 2001, Viking Gas Transmission Company (Viking) tendered for filing as part of its FERC Gas Tariff, First Revised Volume No. 1 the following tariff sheet to be effective February 1, 2001:

Substitute Original Sheet No. 33B

Viking states that the purpose of this filing is to comply with the Letter Order issued on January 31, 2001 in Docket No. RP01-47-001, 94 FERC ¶ 61,086. Accordingly, Viking is removing the $100.00 transaction service charge and the provision that imposes transportation charges for imbalance trades.

Viking states that copies of this filing have been served upon each person or company named on the Commission's service list in the above-captioned proceeding, on Viking's jurisdictional customers and to affected state regulatory commissions.

Any person desiring to protest said filing should file a protest with the Federal Energy Regulatory Commission, 888 First Street, NE., Washington, DC 20426, in accordance with section 385.211 of the Commission's Rules and Regulations. All such protests must be filed on or before March 19, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protest and interventions may be filed electronically via the internet in lieu of paper. See, 18 CFR 85.2001(a)(1)(iii) and the instructions on the Commission's web site at http://www.ferc.fed.us/efi/doorbell.htm.

David P. Boergers.
Secretary.

[FR Doc. 01-6527 Filed 3-15-01; 8:45 am]

BILLING CODE 6717-01-M